DEPARTMENT OF HOMELAND SECURITY

U.S. Citizenship and Immigration Services

[CIS No. 2815-25; DHS Docket No. USCIS-2022-0005]

RIN 1615-ZB95

Termination of the Designation of Cameroon for Temporary Protected Status

AGENCY: U.S. Citizenship and Immigration Services (USCIS), Department of Homeland Security (DHS).

ACTION: Notice.

SUMMARY: Through this notice, the Department of Homeland Security (DHS) announces that the Secretary of Homeland Security (Secretary) is terminating the designation of Cameroon for Temporary Protected Status (TPS). The designation of Cameroon is set to expire on June 7, 2025. After reviewing country conditions and consulting with appropriate U.S. Government agencies, the Secretary determined that Cameroon no longer continues to meet the conditions for the designation for TPS, and termination of the TPS designation of Cameroon is required by statute. This termination is effective August 4, 2025. After August 4, 2025, nationals of Cameroon (and aliens having no nationality who last habitually resided in Cameroon) who have been granted TPS under Cameroon's designation will no longer have TPS.

DATES: The designation of Cameroon for TPS is terminated, effective at 11:59 p.m., local time, on August 4, 2025.

FOR FURTHER INFORMATION CONTACT: Rená Cutlip-Mason, Chief, Humanitarian Affairs Division, Office of Policy and Strategy, U.S. Citizenship and Immigration Services, Department of Homeland Security, 800-375-5283.

SUPPLEMENTARY INFORMATION:

Table of Abbreviations

CFR—Code of Federal Regulations

DHS—U.S. Department of Homeland Security

EAD—Employment Authorization Document

FR—Federal Register

FRN—Federal Register notice

Government—U.S. Government

INA—Immigration and Nationality Act

Secretary—Secretary of Homeland Security

TPS—Temporary Protected Status

USCIS—U.S. Citizenship and Immigration Services

U.S.C.—United States Code

What is Temporary Protected Status (TPS)?

The Immigration and Nationality Act (INA) authorizes the Secretary of Homeland Security, after consultation with appropriate agencies of the U.S. Government, to designate a foreign state (or part thereof) for TPS if the Secretary determines that certain country conditions exist. See INA sec. 244(b)(1), 8 U.S.C. 1254a(b)(1). The determination whether to designate any foreign state (or part thereof) for TPS is discretionary, and there is no judicial review of “any determination of the [Secretary] with respect to the designation, or termination or extension of a designation, of a foreign state” for TPS. See INA sec. 244(b)(5)(A), 8 U.S.C. 1254a(b)(5)(A). If the Secretary designates a country for TPS, she may grant TPS, in her discretion, to eligible nationals of that foreign state (or aliens having no nationality who last habitually resided in the designated foreign state). See INA sec. 244(a)(1)(A), 8 U.S.C. 1254a(a)(1)(A).

At least 60 days before the expiration of a foreign state's TPS designation or extension, the Secretary, after consultation with appropriate U.S. Government agencies, must review the conditions in the foreign state designated for TPS to determine whether they continue to meet the conditions for the TPS designation. See INA sec. 244(b)(3)(A), 8 U.S.C. 1254a(b)(3)(A). If the Secretary determines that the conditions in the foreign state continue to meet the specific statutory criteria for TPS designation, TPS will be extended for an additional period of 6 months or, in the Secretary's discretion, 12 or 18 months. See INA sec. 244(b)(3)(A), (C), 8 U.S.C. 1254a(b)(3)(A), (C). If the Secretary determines that the foreign state no longer meets the conditions for TPS designation, the Secretary must terminate the designation. See INA sec. 244(b)(3)(B), 8 U.S.C. 1254a(b)(3)(B).

TPS is a temporary immigration benefit granted to eligible nationals of a country designated for TPS under the INA, or to eligible aliens without nationality who last habitually resided in the designated country. During the TPS designation period, TPS beneficiaries are eligible to remain in the United States, may not be removed, and are authorized to work and obtain an Employment Authorization Document (EAD) so long as they continue to meet the requirements of TPS. TPS beneficiaries may also apply for and be granted travel authorization as a matter of discretion. The granting of TPS does not result in or lead to lawful permanent resident status or any other immigration status.

To qualify for TPS, beneficiaries must meet the eligibility standards at INA section 244(c)(2), 8 U.S.C. 1254a(c)(2) and the implementing regulations at 8 CFR parts 244 and 1244. When the Secretary terminates a country's TPS designation, beneficiaries return to the same immigration status or category that they maintained before TPS, if any (unless that status or category has since expired or been terminated), or any other lawfully obtained immigration status or category they received while registered for TPS, as long as it is still valid on the date TPS terminates.

Designation of Cameroon for TPS

Cameroon was initially designated for TPS on June 7, 2022, for a period of 18 months, on the basis of ongoing armed conflict and extraordinary and temporary conditions in Cameroon that prevented nationals of Cameroon from returning in safety.¹ Following the initial designation, DHS extended the designation of Cameroon and newly designated Cameroon for TPS for 18 months, beginning on December 8, 2023, and ending on June 7, 2025, based on ongoing armed conflict and extraordinary and temporary conditions.²

¹ See Designation of Cameroon for Temporary Protected Status, 87 FR 34706 (June 7, 2022).

² See Extension and Redesignation of Cameroon for Temporary Protected Status, 88 FR 69945 (Oct. 10, 2023).

Secretary's Authority To Terminate the Designation of Cameroon for TPS

At least 60 days before the expiration of a foreign state's TPS designation or extension, the Secretary, after consultation with appropriate U.S. Government agencies, must review the conditions in the foreign state designated for TPS to determine whether they continue to meet the conditions for the TPS designation. See INA sec. 244(b)(3)(A), 8 U.S.C. 1254a(b)(3)(A). If the Secretary determines that foreign state no longer meets the conditions for the TPS designation, the Secretary terminates the designation, but such termination may not take effect earlier than 60 days after the date the Federal Register notice (FRN) of termination is published, or if later, the expiration of the most recent previous extension of the country designation. See INA sec. 244(b)(3)(B), 8 U.S.C. 1254a(b)(3)(B). The Secretary may determine the appropriate effective date of the termination and expiration of any TPS-related documentation, such as EADs, issued or renewed after the effective date of the termination. See id.; see also INA sec. 244(d)(3), 8 U.S.C. 1254a(d)(3) (providing the Secretary the discretionary “option” to allow for a certain “orderly transition” period if she determines it to be appropriate).

Reasons for the Secretary's Termination of the TPS Designation for Cameroon

Consistent with INA section 244(b)(3)(A), 8 U.S.C. 1254a(b)(3)(A), after consulting with appropriate U.S. Government agencies, the Secretary reviewed country conditions in Cameroon and considered whether requiring the return of Cameroonian nationals (and aliens having no nationality who last habitually resided in Cameroon) to Cameroon poses a serious threat to their personal safety due to ongoing armed conflict. The Secretary also considered whether there are extraordinary and temporary conditions that prevent Cameroonian nationals from returning in safety, and whether despite any extraordinary and temporary conditions that may prevent their safe return, permitting Cameroonian nationals to remain temporarily in the United States is contrary to the national interest of the United States. Overall, while certain conditions that led to the initial designation of TPS for Cameroon may continue, they do not pose a serious threat to individual safety due to ongoing armed conflict and do not result in Cameroonians being unable to safely return.

Based on the Department's review, the Secretary has determined the conditions supporting Cameroon's June 7, 2022, designation for TPS on the basis of ongoing armed conflict and extraordinary and temporary conditions are no longer met. Cameroon is currently experiencing two major conflicts: (1) In the Far North region, the government is dealing with extremist insurgency groups, such as Boko Haram, near the Lake Chad area,³ and (2) in the Northwest and Southwest regions, an ongoing conflict persists between the Anglophone (English-speaking) separatists and the Francophone (French-speaking) central government of Cameroon.⁴ While these conflicts remain active, they are contained in limited regions that primarily impact only three of the ten regions comprising Cameroon.⁵ As a result, Cameroonian aliens can return to the majority of areas in Cameroon that do not pose a serious threat to personal safety. Though crime is prevalent in some regions of Cameroon,⁶ the generalized criminal activity in those regions does not form a sufficient basis for extraordinary and temporary conditions for TPS.

³ Curbing Feuds over Water in Cameroon's Far North, International Crisis Group, April 25, 2024, available at https://www.crisisgroup.org/africa/central-africa/cameroon/b197-curbing-feuds-over-water-cameroons-far-north (last visited Feb. 3, 2025).

⁴ Human Rights Watch, World Report 2024: Cameroon, available at https://www.hrw.org/world-report/2024/country-chapters/cameroon (last visited Apr. 7, 2025).

⁵ Cameroon is divided into 10 administrative regions: Adamaoua, Centre, East (Est), Far North (Extrême-Nord), Littoral, North (Nord), North-West (Nord-Ouest), West (Ouest), South (Sud), South-West (Sud-Ouest). World Factbook, United States Central Intelligence Agency, Cameroon, available at https://www.cia.gov/the-world-factbook/countries/cameroon/ (last visited Apr. 22, 2025); see also Human Rights Watch, World Report 2024: Cameroon, available at https://www.hrw.org/world-report/2024/country-chapters/cameroon (last visited Apr. 7, 2025).

⁶ Cameroon Travel Advisory, U.S. Department of State, December 18, 2024, available at https://travel.state.gov/content/travel/en/traveladvisories/traveladvisories/cameroon-travel-advisory.html (last visited Mar. 19, 2025).

Additionally, Cameroon has been regularly accepting the return of its nationals with final removal orders since it was designated for TPS.

The Secretary has determined that, even assuming there remain extraordinary and temporary conditions that prevent Cameroonian nationals from safely returning, termination of its TPS designation is required because it is contrary to the national interest to permit Cameroonian nationals (or aliens having no nationality who last habitually resided in Cameroon) to remain temporarily in the United States.⁷ By statute, the Secretary is prohibited from designating a country for TPS or extending a TPS designation on the basis of extraordinary and temporary conditions if she finds that “permitting the aliens to remain temporarily in the United States is contrary to the national interest of the United States.” ⁸ “National interest” is not defined in the INA. However, it is an expansive standard that may encompass an array of broad considerations, including foreign policy, public safety (e.g., potential nexus to criminal gang membership), national security, migration factors (e.g., pull factors), immigration policy (e.g., enforcement prerogatives), and economic considerations (e.g., adverse effects on U.S. workers, impact on U.S. communities).⁹ Determining whether permitting a class of aliens to remain temporarily in the United States is contrary to the U.S. national interest therefore calls upon the Secretary's expertise and discretionary judgment, informed by her consultations with appropriate U.S. Government agencies.

⁷ See INS v. Bagamasbad, 429 U.S. 24, 25 (1976) (per curiam) (“As a general rule courts and agencies are not required to make findings on issues the decision of which is unnecessary to the results they reach.”).

⁸ See INA 244(b)(1), 8 U.S.C. 1254a(b)(1).

⁹ See, e.g., Poursina v. USCIS, 936 F.3d 868, 874 (9th Cir. 2019) (observing, in an analogous INA context, “that the `national interest' standard invokes broader economic and national-security considerations, and such determinations are firmly committed to the discretion of the Executive Branch—not to federal courts” (citing Trump v. Hawaii, 585 U.S. 667, 684-86 (2018)); Flores v. Garland, 72 F.4th 85, 89-90 (5th Cir. 2023) (same); Brasil v. Sec'y, Dep't of Homeland Sec., 28 F.4th 1189, 1193 (11th Cir. 2022) (same); cf. Matter of D-J-, 23 I&N Dec. 572, 579-81 (A.G. 2003) (recognizing that taking measures to stem and eliminate possible incentives for potential large-scale migration from a given country is “sound immigration policy” and an “important national security interest”); Matter of Dhanasar, 26 I&N Dec. 884, 890-91 (AAO 2016) (taking into account impact on U.S. workers in “national interest” assessments).

Separately, President Trump clearly articulated an array of policy imperatives bearing upon the national interest in his recent immigration and border-related executive orders and proclamations. In Executive Order 14159, President Trump underscored that enforcing the immigration laws “is critically important to the national security and public safety of the United States.” ¹⁰ In furtherance of that objective, the President directed the Secretary, along with the Attorney General and Secretary of State, to promptly take all appropriate action, consistent with law, to rescind policies that led to increased or continued presence of illegal aliens in the United States.¹¹ Among the directed actions are to ensure that the TPS designations are consistent with the TPS statute and “are appropriately limited in scope and made for only so long as may be necessary to fulfill the textual requirements of that statute.” ¹² The Department has reappraised the national interest factors and determined, in its discretion, that continuing to permit Cameroonian nationals (and aliens having no nationality who last habitually resided in Cameroon) to reside in the United States would be inconsistent with both INA 244 and E.O. 14159 in light of the Secretary's determination that they may return in safety.

¹⁰ E.O. 14159, Protecting the American People Against Invasion, sec. 1, 90 FR 8443, 8443 (Jan. 20, 2025).

¹¹ Id., sec. 16, 90 FR 8446.

¹² Id., sec. 16(b), 90 FR 8446.

DHS estimates that there are approximately 5,200 nationals of Cameroon (and aliens having no nationality who last habitually resided in Cameroon) who hold TPS under Cameroon's designation.¹³

¹³ As of April 7, 2025, approximately 200 of these nationals of Cameroon (and aliens having no nationality who last habitually resided in Cameroon) are also approved as Lawful Permanent Residents. Data queried by Department of Homeland Security, U.S. Citizenship and Immigration Services, Office of Performance and Quality April 2025.

Effective Date of Termination of the Designation

The TPS statute provides that the termination of a country's TPS designation may not be effective earlier than 60 days after the FRN is published or, if later, the expiration of the most recent previous extension. See INA sec. 244(b)(3)(B), 8 U.S.C. 1254a(b)(3)(B).

The Secretary may determine the appropriate effective date of the termination and the expiration of any TPS-related documentation, such as EADs, for the purpose of providing for an orderly transition. See INA sec. 244(d)(3), 8 U.S.C. 1254a(d)(3). Given the Secretary's finding that continuing to permit Cameroonian nationals to remain temporarily in the United States is contrary to the U.S. national interest and that the conditions under INA section 244(b)(1)(A) and (b)(1)(C), 8 U.S.C. 1254a(b)(1)(A), (b)(1)(C), no longer continue to be met, the Secretary has determined that it is not appropriate to allow for a further transition period. Accordingly, the termination of the Cameroon TPS designation will be effective 60 days from the date of publication of this notice in the Federal Register.¹⁴

¹⁴ See 8 CFR 244.19 (“Upon the termination of designation of a foreign state, those nationals afforded temporary Protected Status shall, upon the sixtieth (60th) day after the date notice of termination is published in the Federal Register, or on the last day of the most recent extension of designation by the [Secretary of Homeland Security], automatically and without further notice or right of appeal, lose Temporary Protected Status in the United States. Such termination of a foreign state's designation is not subject to appeal.”).

The Secretary has considered whether there are putative reliance interests in the Cameroon TPS designation, especially when considering whether to allow for an additional transition period similar to that allowed under certain previous TPS terminations. Temporary Protected Status, as the name itself makes clear, is an inherently temporary status. TPS designations are time-limited and must be periodically reviewed, and TPS notices clearly notify aliens of the designations' expiration dates, and whether to allow for an orderly transition period is left to the Secretary's unfettered discretion. See INA sec. 244(b)(3), (d)(3); 8 U.S.C. 1254a(b)(3), (d)(3).¹⁵

¹⁵ DHS recognizes that certain previous TPS terminations allowed for an extended transition, especially in the case of TPS designations that had been extended numerous times over the course of many years. See, e.g., Termination of the Designation of El Salvador for Temporary Protected Status, 83 FR 2654 (Jan. 18, 2018) (nearly 17 years, with 18-month transition period); Termination of the Designation of Sudan for Temporary Protected Status, 82 FR 47228 (Oct. 11, 2017) (20 years, with 12-month orderly transition period); Termination of the Designation of Sierra Leone Under the Temporary Protected Status Program; Extension of Employment Authorization Documentation, 68 FR 52407 (Sept. 3, 2003) (nearly 6 years, with 6-month orderly transition period); Six-Month Extension of Temporary Protected Status Benefits for Orderly Transition Before Termination of Liberia's Designation for Temporary Protected Status, 81 FR 66059 (Sept. 26, 2016) (nearly 2 years, with 6-month orderly transition period). Those countries, however, generally had been designated for TPS for longer periods. At the same time, certain other TPS designations were terminated without allowing for an extended transition period. See, e.g., Termination of Designation of Angola Under the Temporary Protected Status Program, 68 FR 3896 (Jan. 27, 2003) (nearly 3 years, no orderly transition period); Termination of Designation of Lebanon Under Temporary Protected Status Program, 58 FR 7582 (Feb. 8, 1993) (2 years, no extended transition period).

DHS recognizes that Cameroonian TPS beneficiaries continue to be employment authorized during the 60-day transition period.¹⁶ Accordingly, through this FRN, DHS automatically extends the validity of certain EADs previously issued under the TPS designation of Cameroon through August 4, 2025. Therefore, as proof of continued employment authorization through August 4, 2025, Cameroonian TPS beneficiaries can show their EADs that have the notation A-12 or C-19 under Category and a “Card Expires” date of June 7, 2025.

¹⁶ See INA 244(a)(1)(B); see also 8 CFR 244.13(b).

Notice of the Termination of the TPS Designation of Cameroon

By the authority vested in me as Secretary under INA section 244(b)(3), 8 U.S.C. 1254a(b)(3), I have reviewed, in consultation with the appropriate U.S. Government agencies, (a) conditions in Cameroon; (b) whether the return of its nationals (and aliens having no nationality who last habitually resided in Cameroon) would pose a serious threat to their personal safety due to ongoing armed conflict; (c) whether there are extraordinary and temporary conditions that would prevent its nationals (and aliens having no nationality who last habitually resided in Cameroon) from safely returning, and (d) whether permitting the nationals of Cameroon (and aliens having no nationality who last habitually resided in Cameroon) to remain temporarily in the United States is contrary to the national interest of the United States. Based on my review, I have determined, in my discretion, that Cameroon no longer continues to meet the conditions for a designation for Temporary Protected Status (TPS) under INA section 244(b)(1)(A) or (C), 8 U.S.C. 1254a(b)(1)(A) or (C).

Accordingly, I order as follows:

(1) Pursuant to INA section 244(b)(3)(B), 8 U.S.C. 1254a(b)(1)(B), and considering INA section 244(d)(3), 8 U.S.C. 1254a(d)(3), the designation of Cameroon for TPS is terminated effective at 11:59 p.m., local time, on August 4, 2025.

(2) Information concerning the termination of TPS for nationals of Cameroon (and aliens having no nationality who last habitually resided in Cameroon) will be available at local USCIS offices upon publication of this Notice and through the USCIS Contact Center at 1-800-375-5283. This information will be published on the USCIS website at www.uscis.gov.

Kristi Noem,
Secretary of Homeland Security.

[FR Doc. 2025-10236 Filed 6-2-25; 4:15 pm]

BILLING CODE 9111-97-P